NATIONAL ARCHIVES AND RECORDS ADMINISTRATION

[NARA-2018-048]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when agencies no longer need them for current Government business. The records schedules authorize agencies to preserve records of continuing value in the National Archives of the United States and to destroy, after a specified period, records lacking administrative, legal, research, or other value. NARA publishes notice in the Federal Register for records schedules in which agencies propose to destroy records they no longer need to conduct agency business. NARA invites public comments on such records schedules.

DATES: NARA must receive requests for copies in writing by July 30, 2018. Once NARA finishes appraising the records, we will send you a copy of the schedule you requested. We usually prepare appraisal memoranda that contain additional information concerning the records covered by a proposed schedule. You may also request these. If you do, we will also provide them once we have completed the appraisal. You have 30 days after we send to you these requested documents in which to submit comments.

ADDRESSES: You may request a copy of any records schedule identified in this notice by contacting Records Appraisal and Agency Assistance (ACRA) using one of the following means:

Mail: NARA (ACRA); 8601 Adelphi Road; College Park, MD 20740-6001.

Email: request.schedule@nara.gov.

Fax: 301-837-3698.

You must cite the control number, which appears in parentheses after the name of the agency that submitted the schedule, and a mailing address. If you would like an appraisal report, please include that in your request.

FOR FURTHER INFORMATION CONTACT: Margaret Hawkins, Director, by mail at Records Appraisal and Agency Assistance (ACRA); National Archives and Records Administration; 8601 Adelphi Road; College Park, MD 20740-6001, by phone at 301-837-1799, or by email at request.schedule@nara.gov.

SUPPLEMENTARY INFORMATION: NARA publishes notice in the Federal Register for records schedules they no longer need to conduct agency business. NARA invites public comments on such records schedules, as required by 44 U.S.C. 3303a(a).

Each year, Federal agencies create billions of records on paper, film, magnetic tape, and other media. To control this accumulation, agency records managers prepare schedules proposing records retention periods and submit these schedules for NARA's approval. These schedules provide for timely transfer into the National Archives of historically valuable records and authorize the agency to dispose of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it creates or maintains the records. Items included in schedules submitted to NARA on or after December 17, 2007, are media neutral unless the item is expressly limited to a specific medium. (See 36 CFR 1225.12(e).)

Agencies may not destroy Federal records without Archivist of the United States' approval. The Archivist approves destruction only after thoroughly considering the records' administrative use by the agency of origin, the rights of the Government and of private people directly affected by the Government's activities, and whether or not the records have historical or other value.

In addition to identifying the Federal agencies and any subdivisions requesting disposition authority, this notice lists the organizational unit(s) accumulating the records (or notes that the schedule has agency-wide applicability when schedules cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Agriculture, Forest Service (DAA-0095-2018-0001, 1 item, 1 temporary item). General correspondence relating to notification and review of rules, laws, regulations, and orders.

2. Department of Agriculture, Forest Service (DAA-0095-2018-0002, 1 item, 1 temporary item). Background and guidance records related to the management of the Directives Program.

3. Department of Agriculture, Forest Service (DAA-0095-2018-0004, 1 item, 1 temporary item). Administrative reports, reviews, and evaluations of the State and Private Forestry Program.

4. Department of Agriculture, Forest Service (DAA-0095-2018-0005, 1 item, 1 temporary item). Developmental proposals, surveys, requests, and background evaluations related to organizational changes.

5. Department of Agriculture, Forest Service (DAA-0095-2018-0068, 1 item, 1 temporary item). Administrative documents providing guidance on engineering operations, such as the creation of signs, posters, and driver operator guides.

6. Department of Agriculture, Forest Service (DAA-0095-2018-0070, 1 item, 1 temporary item). Administrative training records for personnel assigned to construction projects, including training requirement documents, test data, and correspondence.

7. Department of Agriculture, Forest Service (DAA-0095-2018-0101, 1 item, 1 temporary item). General administrative records pertaining to the Forest Service Survey Program. Included are remonumentation and land records, such as correspondence, statistical documents, and annual survey activity reports.

8. Department of Agriculture, Forest Service (DAA-0095-2018-0102, 1 item, 1 temporary item). Administrative records pertaining to the Forest Service Sign and Poster Program. Included are guidance and planning records, such as correspondence, guidelines, and sign plans.

9. Department of Agriculture, Forest Service (DAA-0095-2018-0103, 1 item, 1 temporary item). General records pertaining to construction and design projects, including geotechnical and materials-engineering records documenting the development and testing of construction and design materials.

10. Department of Agriculture, Forest Service (DAA-0095-2018-0104, 1 item, 1 temporary item). Authorization and monitoring records related to aerial adventure course permit holders and records pertaining to Forest Service safety standards and technical requirements, including case files, documentation of actions taken, and permit holder's compliance records.

11. Department of Agriculture, Forest Service (DAA-0095-2018-0105, 1 item, 1 temporary item). General administrative records of the Forest Service Public Health and Pollution Control Facilities, including records regarding the administration of pollution abatement, as well as sewage, solid waste, and water supply systems on Forest Service lands.

12. Department of Agriculture, Forest Service (DAA-0095-2018-0107, 1 item, 1 temporary item). General administrative records of the Forest Service Dam Management System. Included are correspondence records regarding the administration of dam management systems, dam inventories, and dam operation and maintenance.

13. Department of Agriculture, Forest Service (DAA-0095-2018-0109, 2 items, 2 temporary items). General administrative records related to travel planning for transportation systems. Included are analysis and development records relating to transportation and travel projects, case studies, correspondence, and planning documents.

14. Department of Defense, Defense Threat Reduction Agency (DAA-0374-2017-0015, 1 item, 1 temporary item). Master files of an electronic information system for evaluating weapons hazards through the use of models and scenarios.

15. Department of Defense, Defense Threat Reduction Agency (DAA-0374-2017-0016, 1 item, 1 temporary item). Master files of an electronic information system for tracking and managing weapons systems.

16. Department of Defense, National Security Agency (DAA-0457-2017-0005, 3 items, 3 temporary items). Records of the Civil Liberties, Privacy and Transparency Office, including complaints and correspondence files.

17. Department of Homeland Security, United States Secret Service (DAA-0087-2018-0001, 1 item, 1 temporary item). Chaplain counseling case files.

18. Department of Justice, Drug Enforcement Administration (DAA-0170-2017-0001, 4 items, 4 temporary items). Records related to communications operations, including the agency command center, equipment, infrastructure, service, and security.

19. Department of State, Office of the Secretary (DAA-0059-2018-0001, 2 items, 1 temporary item). Working case files for the Office of the Ombudsman. Proposed for permanent retention are records relating to policy, organization, and mission of the program.

20. Securities and Exchange Commission, Division of Trading and Markets (DAA-0266-2018-0005, 2 items, 2 temporary items). Records relating to legal advisory services rendered internally to offices and divisions.

21. Securities and Exchange Commission, Division of Trading and Markets (DAA-0266-2018-0006, 3 items, 3 temporary items). Records relating to research, analysis, and monitoring of financial market trends, events, and participants.

22. Securities and Exchange Commission, Office of Inspector General (DAA-0266-2018-0002, 11 items, 7 temporary items). Records relating to the actions and activities of the office. Included are routine investigative case files, complaints and inquiries that do not result in the creation of a formal investigative case, and background material related to audit cases. Proposed for permanent retention are significant investigative and litigation case files, internal program and organizational audits, and reports to Congress.

Laurence Brewer,
Chief Records Officer for the U.S. Government.

[FR Doc. 2018-13884 Filed 6-27-18; 8:45 am]

BILLING CODE 7515-01-P